DEPARTMENT OF TRANSPORTATION

Federal Motor Carrier Safety Administration

[Docket No. FMCSA-2019-0157]

Agency Information Collection Activities; Revision of an Approved Information Collection: Training Certification for Entry-Level Commercial Motor Vehicle Operators

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. FMCSA requests approval to revise an ICR titled “Training Certification for Entry-Level Commercial Motor Vehicle Operators,” which will now be used to register providers of entry-level driver training and to provide State Drivers' Licensing Agencies with information on individuals who have completed said training. If approved, this revision would obviate the need for FMCSA to seek renewal on the ICR.

DATES: We must receive your comments on or before September 3, 2019.

ADDRESSES: You may submit comments identified by Federal Docket Management System (FDMS) Docket Number FMCSA-2019-0157 using any of the following methods:

• Federal eRulemaking Portal: http://www.regulations.gov. Follow the online instructions for submitting comments.

• Fax: 1-202-493-2251.

• Mail: Docket Operations; U.S. Department of Transportation, 1200 New Jersey Avenue SE., West Building, Ground Floor, Room W12-140, Washington, DC 20590-0001.

• Hand Delivery or Courier: U.S. Department of Transportation, 1200 New Jersey Avenue SE, West Building, Ground Floor, Room W12-140, Washington, DC 20590-0001 between 9 a.m. and 5 p.m. e.t., Monday through Friday, except Federal holidays.

Instructions: All submissions must include the Agency name and docket number. For detailed instructions on submitting comments, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Pearlie Robinson, Driver and Carrier Operations Division, Department of Transportation, Federal Motor Carrier Safety Administration, West Building 6th Floor, 1200 New Jersey Avenue SE, Washington, DC 20590. Telephone: 202-366-4225; email: pearlie.robinson@dot.gov.

SUPPLEMENTARY INFORMATION:

Background: The Commercial Motor Vehicle Safety Act of 1986 (CMVSA) (49 U.S.C. 31301 et seq.) established the commercial driver's license (CDL) program and directed the Federal Highway Administration (FHWA), FMCSA's predecessor agency, to establish minimum qualifications for issuance of a CDL. These standards were published by FHWA originally in 1985. On May 21, 2004, FMCSA prohibited a motor carrier from allowing an entry-level driver to operate a commercial motor vehicle until it received a written certificate that the driver received training in four specified subject areas (driver qualifications, hours-of-service of drivers, driver wellness, and whistleblower protection) (69 FR 29384). That final rule established the collection of information that is the subject of this request. The most recent renewal for this collection is set to expire on April 30, 2020.

On July 6, 2012, President Obama signed legislation titled the “Moving Ahead for Progress in the 21st Century Act” (MAP-21) (Pub. L. 112-141, 126 Stat. 405, 791). Section 32304 of MAP-21 directed FMCSA to develop and establish minimum driver training standards for applicants for a CDL and/or certain CDL endorsements. On December 8, 2016, FMCSA published a final rule revising entry-level driver training requirements (81 FR 88732), implementing Section 32304 of MAP-21. That final rule eliminated the existing driver training regulations under subpart E of part 380, established new minimum training standards for entry-level drivers, and in doing so established two separate information collection actions: (1) Training providers must submit information to FMCSA to ensure that they meet the new training provider eligibility requirements and can therefore be listed on a new Training Provider Registry (TPR); and (2) after an individual driver-trainee completes training administered by a training provider listed on the TPR, that training provider must submit training certification information regarding the driver-trainee to the TPR. However, because the compliance dates for that final rule were set as three years after its publication, FMCSA did not, at that time, revise the collection of information to reflect these two new provisions, opting to provide an update at the time of the next renewal for the collection. Subsequently, on March 6, 2019, FMSCA published a separate final rule titled “Commercial Driver's License Upgrade from Class B to Class A” (84 FR 8029), that amended the ELDT regulations that were published on December 8, 2016, by adopting a new Class A CDL theory instruction upgrade curriculum to reduce the training time and costs incurred by Class B CDL holders upgrading to a Class A CDL. This March 6, 2019, final rule does not substantively affect the paperwork collection burden associated with the ELDT regulations, therefore no action was taken to update the collection of information at that time.

For the purpose of developing and reporting the revised burden estimates for this ICR, the “Training Provider Registration” information collection activities and the “Driver Training Certification Information” information collection activities (described above) are each addressed below as a separate information collection (IC), IC-1 and IC-2, respectively. This is done because although training providers are the respondent in each case, the nature of the information for each activity is substantively different, with the “Training Provider Registration” IC focused on information pertaining to training providers, and the “Driver Training Certification Information” IC focused on information pertaining to individual entry-level drivers. Furthermore, a forthcoming proposed rule titled “Partial Extension of Compliance Date for Entry-Level Driver Training” (RIN 2126-AC25) would extend by two years, from February 7, 2020, to February 7, 2022, the compliance date for the requirement for training providers to submit training certification information to the TPR for each individual driver-trainee that completes training. The three-year period covered by this ICR is 2020 through 2022. Therefore, these two ICs would now also occur during different time frames of the three-year period covered by this ICR. IC-1 “Training Provider Registration” will occur during all three years 2020 through 2022, consistent with the February 7, 2020, compliance date of the training provider registration provision of the December 2016 ELDT final rule. IC-2 “Driver Training Certification Information” would now occur only during 2022, the final year covered by this ICR, consistent with the forthcoming proposed rule titled “Partial Extension of Compliance Date for Entry-Level Driver Training” (RIN 2126-AC25).

Title: Training Certification for Entry-Level Commercial Motor Vehicle Operators.

OMB Control Number: 2126-0028.

Type of Request: Revision of a currently-approved information collection.

IC-1 (Training Provider Registration)

Respondents: Training providers.

Estimated Number of Respondents (average per year): 15,805.

Estimated Time per Response (average): 1.24 hours.

Expiration Date: April 30, 2020.

Frequency of Response: All training providers will need to initially register once. Additionally, all registered training providers must update their information at least biennially. They are also required to provide an update if any key information (company name, address, phone number, types of training offered, etc.) changes prior to their biennial update.

Estimated Total Annual Burden: 21,629 hours.

IC-2 (Driver Training Certification)

Respondents: Training providers.

Estimated Number of Respondents (average per year): 6,837.

Estimated Time per Response: 5 minutes.

Expiration Date: April 30, 2020.

Frequency of Response: After an individual driver-trainee completes training administered by a training provider listed on the TPR, that training provider must submit training certification information regarding the driver-trainee to the TPR.

Estimated Total Annual Burden: 12,946 hours.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority of 49 CFR 1.87 on: June 24, 2019.
Kelly Regal,
Associate Administrator for Office of Research and Information Technology.

[FR Doc. 2019-14227 Filed 7-2-19; 8:45 am]

BILLING CODE 4910-EX-P